DEPARTMENT OF DEFENSE

Office of the Secretary

[Transmittal Nos. 14-08]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-08 with attached transmittal and policy justification.

Dated: July 8, 2014.
Aaron Siegel,
Alternate OSD Federal Register Liaison Officer, Department of Defense.

BILLING CODE 5001-06-P

Transmittal No. 14-08

Notice of Proposed Issuance of Letter of Offer Pursuant to Section 36(b)(1) of the Arms Export Control Act, as amended

(i) Prospective Purchaser: Egypt

(ii) Total Estimated Value:

Major Defense Equipment* | $0 million.
Other | $69 million.
TOTAL | $69 million.
* As defined in Section 47(6) of the Arms Export Control Act.

(iii) Description and Quantity or Quantities of Articles or Services under Consideration for Purchase: personnel support services to support 140 U.S Government and contractor representatives at nine locations. Services will include lodging, transportation, security, medical, and other related elements of program support.

(iv) Military Department: Air Force (QBC, Amendment #9)

(v) Prior Related Cases, if any: Multiple cases dating back to 1980s.

(vi) Sales Commission, Fee, etc., Paid, Offered, or Agreed to be Paid: None

(vii) Sensitivity of Technology Contained in the Defense Article or Defense Services Proposed to be Sold: None

(viii) Date Report Delivered to Congress: 3 July 2014

POLICY JUSTIFICATION

Egypt—Personnel Support Services

The Government of Egypt requests a possible sale of personnel support services to support 140 U.S Government and contractor representatives at nine locations. Services will include lodging, transportation, security, medical, and other related elements of program support. The estimated cost is $69 million.

This proposed sale will contribute to the foreign policy and national security of the United States by helping to improve the security of a friendly country that has been and continues to be an important force for political stability and economic progress in the Middle East.

Egypt has several Foreign Military Sales (FMS) cases that require in-country support from U.S. contractor, military and civilian personnel. Egypt has requested that the U.S. Air Force consolidate the relevant personnel support cases to maximize cost savings. This notification reports the cost for the past three years of this program and the proposed one-year extension.

The proposed sale of these services will not alter the basic military balance in the region.

This principal contractor will be DynCorps in McLean, Virginia. There are no known offset agreements proposed in connection with this proposed sale.

Implementation of this proposed sale will not require the assignment of additional U.S. government or contractor representatives to manage this program.

There will be no adverse impact on U.S. defense readiness as a result of this proposed sale.

[FR Doc. 2014-16331 Filed 7-11-14; 8:45 am]

BILLING CODE 5001-06-P